DEPARTMENT OF HEALTH AND HUMAN SERVICES

Substance Abuse and Mental Health Services Administration

Office for Women's Services; Notice of a Meeting

Pursuant to Public Law 92-463, notice is hereby given of a Substance Abuse and Mental Health Services Administration's (SAMHSA) Advisory Committee for Women's Services (ACWS) meeting to be held in September 2006.

The meeting will be open and include discussions on SAMHSA's policy issues and program developments relating to women.

Attendance by the public will be limited to space available. Public comments are welcome. Please communicate with the ACWS Executive Secretary, Ms. Carol Watkins (see contact information below), to make arrangements to comment or to request special accommodations for persons with disabilities.

Substantive program information, a summary of the meeting, and a roster of Committee members may be obtained by contacting Ms. Watkins or by accessing the SAMHSA Council Web site at http://www.samhsa.gov as soon as possible after the meeting. The transcript for the meeting will also be available on the SAMHSA Council Web site within 3 weeks after the meeting.

Committee Name: Substance Abuse and Mental Health Services Administration, Advisory Committee for Women's Services.

Date/Time: Monday, September 18, 2006, 9 a.m. to 5 p.m. (Open). Tuesday, September 19, 2006, 9 a.m. to 12 noon (Open).

Place: 1 Choke Cherry Road, Rockville, MD 20857, Great Seneca Conference Room.

Contact: Carol Watkins, Executive Secretary, 1 Choke Cherry Road, Room 8-1002, Rockville, MD 20857, Telephone: (240) 276-2254, Fax: (240) 276-1024, E-mail: carol.watkin2@samhsa.hhs.gov.

This notice is being published less than 15 days prior to the meeting due to a change in the schedule of key staff whose attendance is essential.

Dated: September 11, 2006.
Toian Vaughn,
Committee Management Officer, Substance Abuse and Mental Health Services Administration.

[FR Doc. 06-7718 Filed 9-14-06; 8:45 am]

BILLING CODE 4162-20-P